DEPARTMENT OF THE INTERIOR

Fish and Wildlife Service

Endangered Species Recovery Permit Applications

AGENCY: Fish and Wildlife Service, Interior.

ACTION: Notice of receipt of permit applications.

SUMMARY: We invite the public to comment on the following applications to conduct certain activities with endangered species.

DATES: Comments on these permit applications must be received on or before August 23, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address.

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-126866

Applicant: California Department of Parks and Recreation, Gustine, California

The applicant requests a permit to take (capture, handle, and attach radio transmitters) the riparian brush rabbit (Sylvilagus bachmani riparius) and take (capture, handle, and release) the riparian woodrat (Neotoma fuscipes riparia) in conjunction with ecological research in San Joaquin County, California, for the purpose of enhancing their survival.

Permit No. TE-022630

Applicant: U.S. Geological Survey, Henderson, Nevada

The permittee requests an amentment to remove/reduce to possession the Nitrophila mohavensis (Amargosa niterwort) in conjunction with scientific study in Nye County, Nevada, and Inyo County, California, for the purpose of enhancing its survival.

Permit No. TE-809232

Applicant: BioWest, Inc., Logan Utah

The permittee requests an amendment to take (capture, mark, tag, and release) the bonytail chub (Gila elegans) and increase the geographic area in which to take (capture, mark, tag, measure, fin clip, and release or collect) the razorback sucker (Xyrauchen texanus) along the Lower Colorado River in conjunction with scientific research for the purpose of enhancing their survival.

Permit No. TE-106759

Applicant: Lauronda Cooper, Cupertino, California

The permittee requests an amendment to take (capture, mark, and release) the Stephens' kangaroo rat (Dipodomys stephensi) and the Tipton kangaroo rat (Dipodomys nitratoides nitratoides) in conjunction with surveys throughout the species range in California for the purpose of enhancing their survival.

Permit No. TE-122026

Applicant: Tracy Bailey, Ridgecrest, California

The applicant requests a permit to take (capture, mark, and release) the Pacific pocket mouse (Perognathus longimembris pacificus) in conjunction with surveys throughout the species range in California for the purpose of enhancing its survival.

Permit No. TE-128462

Applicant: Jonathan Feenstra, Pasadena, California

The applicant requests a permit to take (harass by survey) the southwestern willow flycatcher (Empidonax traillii extimus) in conjunction with surveys throughout the species range in California for the purpose of enhancing its survival.

Permit No. TE-128400

Applicant: Christina M. Sloop, Sonoma, California

The applicant requests a permit to remove/reduce to possession Orcuttia pilosa (hairy orcutt grass) and Neostapfia colusana (Colusa grass) from Federal lands throughout the species range in California for the purpose of enhancing their survival.

Permit No. TE-128416

Applicant: Ro M. LoBianco, Danville, California

The applicant requests a permit to take (capture and release) the California freshwater shrimp (Syncaris pacifica) in conjunction with surveys throughout the species range in California for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: June 21, 2006.
Michael Fris,
Acting Manager, California/Nevada Operations Office, U.S. Fish and Wildlife Service.

[FR Doc. E6-11716 Filed 7-21-06; 8:45 am]

BILLING CODE 4310-55-P